DEPARTMENT OF COMMERCE

National Oceanic and Atmospheric Administration

RIN 0648-XG122

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, April 17, 2018 through Thursday, April 19, 2018, beginning at 9 a.m. on April 17, 8:30 a.m. on April 18, and 8:30 a.m. on April 19.

ADDRESSES:

Meeting address: The meeting will be held at the Hilton Hotel, 20 Coogan Boulevard, Mystic, CT 06355; telephone: (860) 572-0731; online at www3.hilton.com/en/hotels/connecticut/hilton-mystic-MYSMHHF/index.html.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, April 17, 2018

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, representatives from NOAA General Counsel and the Office of Law Enforcement, staff from the Atlantic States Marine Fisheries Commission and U.S. Coast Guard, and the Northeast Trawl Advisory Panel. Next, the Council will receive some introductory remarks from the Bureau of Ocean Energy Management (BOEM), which will be holding an open house in a neighboring meeting room to collect comments and answer questions on offshore wind leasing activities. The Habitat Report will be next, beginning with an update on proposed and ongoing offshore energy projects in the Northeast. The Council then will receive a progress report on the Clam Dredge Framework, which is being developed to consider surfclam dredge fishery access to the new Great South Channel Habitat Management Area. The Council will discuss whether to consider a mussel dredge exemption in the framework within the habitat management area. The Skate Committee will report next. The Council may take final action on Framework Adjustment 6 to the Northeast Skate Complex Fishery Management Plan (FMP), which contains alternatives for prolonging the length of the skate wing fishery.

After the lunch break, members of the public will have the opportunity to speak during an open comment period on issues that relate to Council business but are not included on the published agenda for this meeting. The Council asks the public to limit remarks to 3-5 minutes. Following public comment, the Scallop Committee will provide a progress report on 2018 priorities, including adjustments to General Category Individual Fishing Quota trip limits and monitoring/catch accounting provisions. The Council may discuss possible adjustments to its scallop priorities to allow consideration of standard default measures in Framework Adjustment 30. This framework will include specifications for the 2019 scallop fishing year and default specifications for fishing year 2020, along with other measures. The Council Program Review will be next. A panel of external reviewers with scientific and management expertise met March 13-16, 2018 to independently assess the New England Council's operations and performance. The Council will review and discuss the panel's findings and recommendations for improvement. The Council then will adjourn for the day.

Wednesday, April 18, 2018

The second day of the meeting will begin with a report from NMFS staff on the agency's draft policy directive for allocating costs in electronic monitoring (EM) programs in federal fisheries. The Groundfish Committee report will follow. The Council will receive an update on the potential range of alternatives in Groundfish Monitoring Amendment 23, which is under development to improve the overall catch and discard monitoring program in the Northeast multispecies fishery. The Council then will discuss Northeast Fishery Sector IX. First, the Council will receive a GARFO overview on: (a) Sector IX steps to address shortcomings in meeting the requirements of its previous sector operations plan; and (b) Sector IX's proposed lease-only operations plan as submitted to GARFO. The Council will consider making recommendations to NMFS on the proposed operations plan.

Following a lunch break, the Council will be briefed on highlights from the March 28-29, 2018 Saltwater Recreational Fisheries Summit. Next, the Council will take up the issue of “best scientific information available” (BSIA). The Council will review NMFS's draft document on BSIA and then receive feedback and recommendations on the draft from its Scientific and Statistical Committee. The Council will consider making recommendations to NMFS on the BSIA draft document. The Council next will receive a presentation on the Atlantic Large Whale Take Reduction Team's recent meetings and related activities. Following any pertinent discussion, the Council will receive a presentation by NMFS staff on agency proposals to address overfishing and rebuild North Atlantic shortfin mako sharks. The Council will conclude the day with a short report on: (a) NMFS's Highly Migratory Species Advisory Panel's (AP) recent meeting, which will include the AP's comments on shortfin mako sharks; and (b) the International Commission for the Conservation of Atlantic Tunas Advisory Committee's recent meeting.

Thursday, April 19, 2018

The third day of the meeting will begin with an Atlantic herring report. The Council will review and discuss an updated white paper that addresses issues related to potentially adding river herring and shad as stocks in the Atlantic herring fishery. The Council may take action related to this item. The Council also will discuss the implications of the river herring/shad bycatch accountability measures that recently were triggered in both the Atlantic herring and Atlantic mackerel fisheries. The Council then will move into its Industry-Funded Monitoring (IFM) discussion. GARFO staff will present NMFS's final report on a recent EM project conducted aboard midwater trawl vessels in the Atlantic herring and Atlantic mackerel fisheries. The Council then will debate whether EM, coupled with portside sampling, provide a sufficient alternative to at-sea monitoring in the Atlantic herring midwater trawl fishery. This discussion may lead to Council action within the Omnibus IFM Amendment.

Following a lunch break, the Council will receive the annual Ecosystem Status Report from NEFSC staff. The report summarizes the status of the Northeast Continental Shelf ecosystem. The Council then will review and discuss proposals being prepared for NMFS to address regulatory reform as mandated by Executive Orders 13777, 13771, and 13565. The Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: March 27, 2018.
Jeffrey N. Lonergan,
Acting Deputy Director, Office of Sustainable Fisheries, National Marine Fisheries Service.

[FR Doc. 2018-06482 Filed 3-29-18; 8:45 am]

BILLING CODE 3510-22-P